DEPARTMENT OF THE TREASURY

Agency Information Collection Activities; Submission for OMB Review; Comment Request; Multiple Fiscal Service Information Collection Requests

AGENCY: Departmental Offices, Department of the Treasury.

ACTION: Notice of information collection; request for comment.

SUMMARY: The Department of the Treasury will submit the following information collection requests to the Office of Management and Budget (OMB) for review and clearance in accordance with the Paperwork Reduction Act of 1995, on or after the date of publication of this notice. The public is invited to submit comments on these requests.

DATES: Comments should be received on or before July 29, 2022 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202)-622-1035, or viewing the entire information collection request at www.reginfo.gov.

SUPPLEMENTARY INFORMATION:

Bureau of the Fiscal Service (BFS)

1. Title: Collateral Security Resolution and Collateral Pledge and Security Agreement.

OMB Control Number: 1530-0017.

Type of Review: Extension of a currently approved collection.

Description: These forms are used to give authority to financial institutions to become a depositary of the Federal Government. They also execute an agreement from the financial institutions they are authorized to pledge collateral to secure public funds with Federal Reserve Banks or their designees.

Form: FS 5902 and FS 5903.

Affected Public: Business or other for-profit.

Estimated Number of Respondents: 15 (2 forms each).

Estimated Total Number of Annual Responses: 30.

Estimated Time per Response: 30 minutes (15 minutes each form).

Estimated Total Annual Burden Hours: 7.5.

2. Title: ACH Vendor/Miscellaneous Payment Enrollment Form.

OMB Control Number: 1530-0069.

Type of Review: Extension of a currently approved collection.

Description: The form is used by multiple agencies to collect payment data from vendors doing business with the Federal Government. The Treasury Department, Bureau of the Fiscal Service, will use the information to electronically transmit payment to vendors' financial institutions.

Form: SF 3881.

Affected Public: Business or other for-profit institutions.

Estimated Number of Respondents: 50,000.

Estimated Total Number of Annual Responses: 50,000.

Estimated Time per Response: 15 minutes.

Estimated Total Annual Burden Hours: 12,500.

Authority: 44 U.S.C. 3501 et seq.

Melody Braswell,
Treasury PRA Clearance Officer.

[FR Doc. 2022-13912 Filed 6-28-22; 8:45 am]

BILLING CODE 4810-AS-P